ELECTION ASSISTANCE COMMISSION

Request for Comment: Voluntary Electronic Poll Book Requirements Version 1.0

AGENCY: U.S. Election Assistance Commission.

ACTION: Notice, request for comment.

SUMMARY: The U.S. Election Assistance Commission (EAC) is publishing Version 1.0 of the Voluntary Electronic Poll Book Requirements (VEPBR v1.0) for public comment. The intent of the VEPBR v1.0 is to improve the functionality, security, and accessibility of electronic poll books used in Federal elections. The VEPBR v1.0 establishes baseline requirements for electronic poll book manufacturers to receive certification through the EAC's Election Supporting Technology Evaluation Program (ESTEP). This version replaces the draft version (0.9) utilized during the EAC's Voluntary Electronic Poll Book Pilot Program in 2021-2023. Participation in this program is voluntary.

DATES: Comments must be received by 5 p.m. eastern on Thursday, December 14, 2023.

ADDRESSES: To view the VEPBR v1.0, see: https://www.eac.gov/voting-equipment/Election_Supporting_Technology_Evaluation_Program. Comments on the proposed VEPBR v1.0 should be submitted electronically via https://www.regulations.gov (docket IDs: EAC-2023-0005). Written comments on the proposed document can also be sent to the U.S. Election Assistance Commission, 633 3rd Street NW, Suite 200, Washington, DC 20001, Attn: Election Supporting Technology Evaluation Program.

FOR FURTHER INFORMATION CONTACT: Elizabeth Beatrice, Election Technology Specialist, Election Supporting Technology Evaluation Program, Washington, DC, (202) 748-2298. Email: estep@eac.gov.

SUPPLEMENTARY INFORMATION: Purpose: Under the authority of the Help America Vote Act of 2002 (HAVA), the U.S. Election Assistance Commission (EAC) developed the Election Supporting Technology Evaluation Program (ESTEP). This Program establishes a protocol for testing critical election-supporting technologies to ensure their conformance with baseline Federal standards for security and accessibility. While participation in this Program is voluntary, EAC certification benefits the public and wider election technology field by supporting State and local election officials, increasing quality control and quality assurance of election-supporting technologies, and increasing voter confidence in the use of these systems.

The VEPBR v1.0 will be used primarily by electronic poll book system manufacturers and Voting System Test Laboratories (VSTLs) as a baseline set of requirements for electronic poll book system security and accessibility to which States or Territories will add their specific requirements, as necessary. Manufacturers will use these requirements when they design and build new e-poll book systems. VSTLs will refer to this document when they develop test plans for the analysis and testing of e-poll book systems to verify whether the system meets these requirements. States and Territories may utilize these requirements as a baseline and include additional requirements, as deemed necessary by their legislation or other regulations.

Public Comments: Please note that comments submitted in response to this Notice are public record. Before including any detailed personal information, you should be aware that your submitted comments, including your personal information, will be available for public review.

Respondents: Election Supporting Technology Manufacturers, Voting System Test Laboratories, State and Local Election Officials.

Camden Kelliher,
Deputy General Counsel, U.S. Election Assistance Commission.

[FR Doc. 2023-25054 Filed 11-13-23; 8:45 am]

BILLING CODE 4810-71-P